DEPARTMENT OF COMMERCE

National Oceanic and Atmospheric Administration

RIN 0648-XF846

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of the Personnel Committee (Closed Session); Habitat Protection and Ecosystem-Based Management Committee; Spiny Lobster Committee; Citizen Science Committee; Data Collection Committee; Snapper Grouper Committee; Southeast Data, Assessment and Review (SEDAR) Committee (Partially Closed); Mackerel Cobia Committee, Information and Education Committee; Standard Operating, Policy and Procedure (SOPPs) Committee, and the Executive Finance Committee. The Council will meet as a Committee of the Whole to address the Acceptable Biological Catch (ABC) Control Rule and a meeting of the full Council. A Recreational Reporting Workshop will also be held during the meeting week. The Council will also hold a formal public comment session and take action as necessary.

DATES: The Council meetings will be held from 8 a.m. on Monday, December 4, 2017 until 1 p.m. on Friday, December 8, 2017.

ADDRESSES:

Meeting address: The meeting will be held at the DoubleTree by Hilton Atlantic Beach Oceanfront, 2717 W. Fort Macon Road, Atlantic Beach, NC 28512; phone: (252) 240-1155; fax: (252) 222-4065.

Council address: South Atlantic Fishery Management Council, 4055 Faber Place Drive, Suite 201, N. Charleston, SC 29405.

FOR FURTHER INFORMATION CONTACT: Kim Iverson, Public Information Officer, SAFMC; phone (843) 571-4366 or toll free (866) SAFMC-10; fax: (843) 769-4520; email: kim.iverson@safmc.net. Meeting information is available from the Council's Web site at: http://safmc.net/meetings/council-meetings/.

SUPPLEMENTARY INFORMATION:

Public comment: Written comments may be directed to Gregg Waugh, Executive Director, South Atlantic Fishery Management Council (see ADDRESSES) or electronically via the Council's Web site at http://safmc.net/safmc-meetings/council-meetings/. The public comment form is open for use when the briefing book is posted to the Web site on the Friday, two weeks prior to the Council meeting (11/17/17). Comments received by close of business the Monday before the meeting 11/27/17) will be compiled, posted to the Web site as part of the meeting materials, and included in the administrative record; please use the Council's online form available from the Web site. For written comments received after the Monday before the meeting (after 11/27/17), individuals submitting a comment must use the Council's online form available from the Web site. Comments will automatically be posted to the Web site and available for Council consideration. Comments received prior to noon on Thursday, December 7, 2017 will be a part of the meeting administrative record.

The items of discussion in the individual meeting agendas are as follows:

Personnel Committee (Closed Session), December 4, 2017, 8 a.m. Until 9 a.m.

1. The Personnel Committee will meet in Closed Session to discuss personnel issues and provide recommendations for Council consideration.

Habitat Protection and Ecosystem-Based Management Committee, Monday, December 4, 2017, 9 a.m. Until 11 a.m.

1. The Committee will receive a report from the Habitat Protection and Ecosystem-Based Management Advisory Panel.

2. The Committee will review and approve the Implementation Plan for the Fishery Ecosystem-Based Management Plan (FEP II), review and approve the Road Map for the FEP II, review the Dashboard and Tools for the FEP II, receive an update on the Conservation Blueprint 2.2, and provide guidance.

3. The Committee will receive updates on other Habitat-related issues and provide recommendations as appropriate.

Committee Meeting of the Whole—Acceptable Biological Catch (ABC) Control Rule, Monday, December 4, 2017, 11 a.m. Until 12:00 noon.

1. The Council will meet as a Committee of the Whole to discuss the ABC Control Rule Amendment currently under development and provide guidance to staff.

Spiny Lobster Committee, Monday, December 4, 2017, 1:30 p.m. Until 3 p.m.

1. The Committee will receive an update on the status of 2016/17 catches versus the annual catch limit (ACLs), and review draft options for Spiny Lobster Amendment 13 addressing bullynets and measures recommended by the Florida Fish and Wildlife Conservation Commission (FWC), and provide recommendations as appropriate.

Citizen Science Committee, Monday, December 4, 2017, 3 p.m. Until 4:30 p.m.

1. The Committee will address policy on the Citizen Science Advisory Panel Pool and Action Team appointments and approve for recommendation to Council.

2. The Committee will receive reports from the Citizen Science Action Teams, discuss items brought forward by the Action Teams, and provide guidance to staff as appropriate.

3. The Committee will receive an update on the Citizen Science Program partnerships and Pilot Project and provide guidance to staff as needed.

Data Collection Committee, Monday, December 4, 2017, 4:30 p.m. Until 5:30 p.m.

1. The Committee will receive status reports on the For-Hire Electronic Reporting Amendment, and the Council's Data Collection Pilot Project and Outreach Plan relative to For-Hire Electronic Reporting. The Committee will provide guidance to staff as necessary.

Recreational Reporting Workshop, Tuesday, December 5, 2017 From 8:30 a.m. Until 12 p.m.

1. The Council will receive an update on the red snapper mini-season, and hold a workshop on recreational reporting with presentations on electronic reporting for big game, the iSnapper voluntary reporting program, Tails'n'Scales mandatory reporting program, and state involvement in reporting for the Marine Recreational Informational Reporting Program (MRIP). Discussion of these programs will be held as part of the workshop.

Snapper Grouper Committee, Tuesday, December 5, 2017, 1:30 p.m. Until 5:30 p.m. and Wednesday, December 6, 2017 From 8:30 a.m. Until 4:30 p.m.

1. The Committee will receive updates from NOAA Fisheries on commercial and recreational catches versus quotas for species under ACLs and the status of amendments under formal Secretarial review.

2. The Committee will receive a Report from the Snapper Grouper Advisory Panel.

3. The Committee will receive an overview of draft Amendment 46 addressing measures for red snapper, review options, and provide guidance to staff.

4. The Committee will receive an overview Vision Blueprint Regulatory Amendment 26 addressing recreational management actions and alternatives as identified in the 2016-2020 Vision Blueprint for the Snapper Grouper Fishery Management Plan. The Committee will review the revised actions and alternatives, updated analyses, and purpose and need. The Committee will modify the document as necessary and provide guidance to staff.

5. The Committee will review Vision Blueprint Regulatory Amendment 27 addressing commercial management actions and alternatives, as identified in the 2016-2020 Vision Blueprint for the Snapper Grouper Fishery. The Committee will review recommendations from the Scientific and Statistical Committee (SSC), review revised actions and alternatives, updated analyses, and the purpose and need, modify the document as necessary, and provide guidance to staff.

6. The Committee will receive presentations from NOAA Fisheries on proposed Exempted Fishing Permits for lionfish and provide recommendations as appropriate.

7. The Committee will receive an overview on options for draft Amendment 38 addressing management measures for blueline tilefish, receive a presentation on the benchmark stock assessment (SEDAR 50), review fishing level recommendations from the SSC, modify the amendment as necessary, and provide guidance to staff.

8. The Committee will receive an overview of options for the draft For-Hire Moratorium Amendment, discuss and provide guidance to staff.

9. The Committee will receive SSC fishing level recommendations for red grouper, review management options, and approve the abbreviated framework document for formal Secretarial Review.

10. The Committee will receive an overview from staff on golden tilefish management, review recommendations from the SSC, and provide guidance to staff.

11. The Committee will receive an update on the Wreckfish Individual Transferable Quota (ITQ) review and provide guidance to staff.

12. The Committee will receive an overview of management issues relative to yellowtail snapper, review a response from the Gulf of Mexico Fishery Management Council on a potential joint amendment to examine jurisdictional annual catch limits, and provide guidance to staff.

Formal Public Comment, Wednesday, December 6, 2017, 4:30 p.m.—Public comment will be accepted on items on the Council agenda. The Council is also accepting public comment on Executive Order 13771 (2 for 1 regulations) to identify regulations that are (1) outdated, (2) unnecessary, or (3) ineffective. The Council Chair, based on the number of individuals wishing to comment, will determine the amount of time provided to each commenter.

SEDAR Committee (Partially Closed), Thursday, December 7, 2017, 8:30 a.m. Until 9:30 a.m.

(Closed Session)

1. The Committee will make recommendations for appointments to the Cobia Stock Identification Workshop and for appointments to stock assessments for greater amberjack and red porgy.

(Open Session)

2. The Committee will receive a report from the SSC.

3. The Committee will review Terms of Reference and schedules for greater amberjack and red porgy stock assessments and provide recommendations as appropriate.

4. The Committee will review the SEDAR Steering Committee Report, discuss, and provide guidance as appropriate.

Mackerel Cobia Committee, Thursday, December 7, 2017, 9:30 a.m. Until 12 p.m.

1. The Committee will receive an update on commercial and recreational catches versus quotas for species managed under ACLs and an update on the status of amendments currently under Secretarial review.

2. The Committee will receive an update on development of the Interstate Atlantic Cobia Management Plan from the Atlantic States Marine Fisheries Commission (ASMFC).

3. The Committee will receive an update on the status of a request for recalculation of the 2015 and 2016 recreational landings for Atlantic cobia.

4. The Committee will receive an overview of Coastal Migratory Pelagics Framework Amendment 6 addressing Atlantic king mackerel trip limits, discuss, and provide recommendations for approval for public scoping.

5. The Committee will receive an overview Coastal Migratory Pelagics Amendment 31 addressing proposed management measures for Atlantic cobia, discuss, and provide recommendations for approval for public hearings.

Information and Education Committee, Thursday, December 7, 2017, 1:30 p.m. Until 2 p.m.

1. The Committee will receive a report from the Information and Education Advisory Panel, discuss and provide recommendations to staff as appropriate.

SOPPs Committee, Thursday, December 7, 2017, 2 p.m. Until 3:30 p.m.

1. The Committee will review policies for inclusion in the SOPPs and/or Council Handbook, discuss and provide direction to staff as appropriate.

Executive/Finance Committee, Thursday, December 7, 2017, 3:30 p.m. Until 5:30 p.m.

1. The Committee will receive an overview of the current Magnuson-Stevens Reauthorization efforts, discuss and provide guidance and approval as needed.

2. The Committee receive an update on the current budget status and outlook, discuss and provide guidance as needed.

3. The Committee will receive an overview on materials available for Council meetings, discuss, and provide guidance to staff.

5. The Committee will receive an overview of the System Management Plan Advisory Panel, discuss and provide additional guidance as needed.

Council Session: Friday, December 8, 2017, 8:30 a.m. Until 1 p.m. (Partially Closed Session if Needed)

The Full Council will begin with the Call to Order, adoption of the agenda, announcements and introductions, and presentations.

The Council will receive a Legal Briefing on Litigation from NOAA General Counsel (if needed) during Closed Session. The Council will receive the Executive Director's Report and an update on results from the Northeast Regional Coordinating Council meeting in November. Updates will be provided by NOAA Fisheries including a discussion with Dr. Francisco “Cisco” Werner, Chief Science Advisor and Director of Scientific Programs, reports on the status of commercial and recreational catches versus ACLs for species not covered during an earlier committee meeting, status of Recreational and Commercial Quota Monitoring Tables on the NOAA Fisheries' Southeast Regional Office Web site, a turtle release presentation, and discussion of other issues as necessary. The Council will also receive an update on the status of Bycatch Collection Programs and the pending voluntary commercial electronic logbook reporting effort from NOAA Fisheries' Southeast Fisheries Science Center. The Council will review any Exempted Fishing Permits received by NOAA Fisheries as necessary. The Council will receive Committee reports from the Snapper Grouper, Mackerel Cobia, Spiny Lobster, SEDAR, Data Collection, Habitat and Ecosystem-Based Management, Information and Education, Citizen Science, SOPPs, and Executive Finance Committees; a report from the Committee of the Whole (ABC Control Rule); a report from the Recreational Reporting Workshop; review recommendations; and take action as appropriate.

The Council will receive agency and liaison reports; and discuss other business and upcoming meetings.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Authority: 16 U.S.C. 1801 et seq.

Dated: November 14, 2017.
Tracey L. Thompson,
Acting Deputy Director, Office of Sustainable Fisheries, National Marine Fisheries Service.

[FR Doc. 2017-24955 Filed 11-16-17; 8:45 am]

BILLING CODE 3510-22-P